DEPARTMENT OF TRANSPORTATION

Surface Transportation Board

[STB Ex Parte No. 347 (Sub-No. 3)]

General Procedures for Presenting Evidence in Stand-Alone Cost Rate Cases

AGENCY: Surface Transportation Board.

ACTION: Notice of procedural guidelines.

SUMMARY: The Surface Transportation Board (Board) has issued procedural guidelines governing the filing of evidence in stand-alone cost (SAC) rate cases.

EFFECTIVE DATE: April 11, 2001.

FOR FURTHER INFORMATION CONTACT: Thomas J. Stilling, (202) 565-1567. (Assistance for the hearing impaired is available through TDD services (202) 565-1695.)

SUPPLEMENTARY INFORMATION: In recent months, the Board has received several new complaints challenging the reasonableness of rates charged by railroads. The Board's SAC test developed in Coal Rate Guidelines, Nationwide, 1 I.C.C.2d 520 (1985) will be used in many of the cases to evaluate the reasonableness of the rates. Because it requires a significant commitment of agency resources to review the SAC presentations of the litigants, the Board has developed procedures to streamline and standardize evidence. In a decision served March 12, 2001, the Board explained that the procedures are “designed to standardize the format for submitting written presentations, workpapers and electronic spreadsheets, and better focus the evidence so that [the Board] can more efficiently and effectively evaluate the records in [SAC] cases.”

A printed copy of the Board's decision in Ex Parte No. 347 (Sub-No. 3) is available for a fee by contacting Dā-To-Dā Office Solutions, Room 405, 1925 K Street, NW., Washington, DC 20006, telephone (202) 466-5530. The decision is also available for viewing and downloading on the Board's website at www.stb.dot.gov.

By the Board, Chairman Morgan, Vice Chairman Clyburn and Commissioner Burkes.
Vernon A. Williams,
Secretary.

[FR Doc. 01-6078 Filed 3-9-01; 8:45 am]

BILLING CODE 4915-00-P